DEPARTMENT OF DEFENSE

Office of the Secretary

Department of Defense Wage Committee; Notice of Federal Advisory Committee Meetings

AGENCY: Under Secretary of Defense for Personnel and Readiness (USD(P&R)), Department of Defense (DoD).

ACTION: Notice of closed Federal advisory committee meetings.

SUMMARY: The DoD is publishing this notice to announce that the following Federal Advisory Committee meetings of the Department of Defense Wage Committee (DoDWC) will take place.

DATES:

Tuesday, January 7, 2025, from 10:00 a.m. to 11:30 a.m. and will be closed to the public, Eastern Standard Time (EST).

Tuesday, January 21, 2025, from 10:00 a.m. to 10:30 a.m. and will be closed to the public, EST.

Tuesday, February 4, 2025, from 10:00 a.m. to 11:00 a.m. and will be closed to the public, EST.

Tuesday, February 18, 2025, from 10:00 a.m. to 11:30 a.m. and will be closed to the public, EST.

Tuesday, March 4, 2025, from 10:00 a.m. to 11:00 a.m. and will be closed to the public, EST.

Tuesday, March 18, 2025, from 10:00 a.m. to 1:00 p.m. and will be closed to the public, Eastern Daylight Time (EDT).

Tuesday, April 1, 2025, from 10:00 a.m. to 11:00 a.m. and will be closed to the public, EDT.

ADDRESSES: The closed meetings will be held by Microsoft Teams.

FOR FURTHER INFORMATION CONTACT: Mr. Karl Fendt, Designated Federal Officer (DFO) (571) 372-1618 (voice), karl.h.fendt.civ@mail.mil. (email), 4800 Mark Center Drive, Suite 05G21, Alexandria, Virginia 22350 (mailing address). Any agenda updates can be found at the DoDWC's official website: https://wageandsalary.dcpas.osd.mil/BWN/DODWC/.

SUPPLEMENTARY INFORMATION: These meetings are being held under the provisions of chapter 10 of title 5, United States Code (U.S.C.) (commonly known as the “Federal Advisory Committee Act” or “FACA”), subsection 552b(c) of title 5, U.S.C., and 41 Code of Federal Regulations (CFR) 102-3.140 and 102-3.155.

Purpose of the Meeting: The purpose of these meetings is to provide independent advice and recommendations on matters relating to the conduct of wage surveys and the establishment of wage schedules for all appropriated fund and non-appropriated fund areas of blue-collar employees within the DoD.

Agendas

January 7, 2025

Opening Remarks by Chair, Mr. Eric Clayton, and DFO, Mr. Karl Fendt.

Reviewing survey results and/or survey specifications for the following Nonappropriated Fund areas:

1. Any items needing further clarification or action from the previous meeting.

2. Survey Specifications for the McLennan, Texas wage area (AC-022).

3. Survey Specifications for the Jefferson, New York wage area (AC-101).

4. Survey Specifications for the Orange, New York wage area (AC-103).

5. Survey Specifications for the Macomb, Michigan wage area (AC-162).

6. Survey Specifications for the Niagara, New York wage area (AC-166).

Reviewing survey results and/or survey specifications for the following Appropriated Fund areas:

7. Wage Schedule (Full Scale) for the New Orleans, Louisiana wage area (AC-061).

8. Wage Schedule (Full Scale) for the Richmond, Virginia wage area (AC-141).

9. Wage Schedule (Wage Change) for the Wilmington, Delaware wage area (AC-026).

10. Wage Schedule (Wage Change) for the Topeka, Kansas wage area (AC-056).

11. Wage Schedule (Wage Change) for the Wichita, Kansas wage area (AC-057).

12. Wage Schedule (Wage Change) for the Biloxi, Mississippi wage area (AC-076).

13. Wage Schedule (Wage Change) for the Roanoke, Virginia wage area (AC-142).

14. Survey Specifications for the Albuquerque, New Mexico wage area (AC-089).

15. Special Pay—Wilmington, Delaware Special Rates

16. Any items needing further clarification from this agenda may be discussed during future scheduled meetings.

Closing Remarks by Chair, Mr. Eric Clayton.

January 21, 2025

Opening Remarks by Chair, Mr. Eric Clayton, and DFO, Mr. Karl Fendt.

Reviewing survey results and/or survey specifications for the following Appropriated Fund areas:

1. Any items needing further clarification or action from the previous meeting.

2. Survey Specifications for the New Haven-Hartford, Connecticut wage area (AC-024).

3. Survey Specifications for the Texarkana, Texas wage area (AC-136).

4. Any items needing further clarification from this agenda may be discussed during future scheduled meetings.

Closing Remarks by Chair, Mr. Eric Clayton.

February 4, 2025

Opening Remarks by Chair, Mr. Eric Clayton, and DFO, Mr. Karl Fendt.

Reviewing survey results and/or survey specifications for the following Nonappropriated Fund areas:

1. Any items needing further clarification or action from the previous meeting.

2. Survey Specifications for the Orleans, Louisiana wage area (AC-006).

3. Survey Specifications for the Bell, Texas wage area (AC-028).

4. Survey Specifications for the Curry, New Mexico wage area (AC-030).

5. Survey Specifications for the Tom Green, Texas wage area (AC-032).

6. Survey Specifications for the Cobb, Georgia wage area (AC-034).

7. Survey Specifications for the Columbus, Georgia wage area (AC-067).

Reviewing survey results and/or survey specifications for the following Appropriated Fund areas:

8. Survey Specifications for the Cleveland, Ohio wage area (AC-105).

9. Any items needing further clarification from this agenda may be discussed during future scheduled meetings.

Closing Remarks by Chair, Mr. Eric Clayton.

February 18, 2025

Opening Remarks by Chair, Mr. Eric Clayton, and DFO, Mr. Karl Fendt.

Reviewing survey results and/or survey specifications for the following Nonappropriated Fund areas:

1. Any items needing further clarification or action from the previous meeting.

2. Wage Schedule (Full Scale) for the Brevard, Florida wage area (AC-061).

3. Wage Schedule (Full Scale) for the Hillsborough, Florida wage area (AC-119).

4. Wage Schedule (Full Scale) for the Miami-Dade, Florida wage area (AC-158).

5. Wage Schedule (Full Scale) for the Duval, Florida wage area (AC-159).

6. Wage Schedule (Full Scale) for the Monroe, Florida wage area (AC-160).

7. Wage Schedule (Wage Change) for the Washoe-Churchill, Nevada wage area (AC-011).

8. Wage Schedule (Wage Change) for the Orange, Florida wage area (AC-062).

9. Wage Schedule (Wage Change) for the Bay, Florida wage area (AC-063).

10. Wage Schedule (Wage Change) for the Escambia, Florida wage area (AC-064).

11. Wage Schedule (Wage Change) for the Okaloosa, Florida wage area (AC-065).

12. Wage Schedule (Wage Change) for the Clark, Nevada wage area (AC-140).

Reviewing survey results and/or survey specifications for the following Appropriated Fund areas:

13. Survey Specifications for the Atlanta, Georgia wage area (AC-037).

14. Survey Specifications for the Western Texas wage area (AC-127).

15. Survey Specifications for the Waco, Texas wage area (AC-137).

16. Any items needing further clarification from this agenda may be discussed during future scheduled meetings.

Closing Remarks by Chair, Mr. Eric Clayton.

March 4, 2025

Opening Remarks by Chair, Mr. Eric Clayton, and DFO, Mr. Karl Fendt.

Reviewing survey results and/or survey specifications for the following Nonappropriated Fund areas:

1. Any items needing further clarification or action from the previous meeting.

2. Survey Specifications for the Hennepin, Minnesota wage area (AC-015).

3. Survey Specifications for the Grand Forks, North Dakota wage area (AC-017).

4. Survey Specifications for the Davis-Weber-Salt Lake, Utah wage area (AC-018).

5. Survey Specifications for the Ada-Elmore, Idaho wage area (AC-038).

6. Survey Specifications for the Cascade, Montana wage area (AC-040).

7. Survey Specifications for the Spokane, Washington wage area (AC-043).

Reviewing survey results and/or survey specifications for the following Appropriated Fund areas:

8. Survey Specifications for the Savannah, Georgia wage area (AC-042).

9. Any items needing further clarification from this agenda may be discussed during future scheduled meetings.

Closing Remarks by Chair, Mr. Eric Clayton.

March 18, 2025

Opening Remarks by Chair, Mr. Eric Clayton, and DFO, Mr. Karl Fendt.

Reviewing survey results and/or survey specifications for the following Nonappropriated Fund areas:

1. Any items needing further clarification or action from the previous meeting.

2. Wage Schedule (Full Scale) for the Sacramento, California wage area (AC-002).

3. Wage Schedule (Full Scale) for the San Joaquin, California wage area (AC-008).

4. Wage Schedule (Full Scale) for the Bernalillo, New Mexico wage area (AC-019).

5. Wage Schedule (Full Scale) for the Dona Ana, New Mexico wage area (AC-021).

6. Wage Schedule (Full Scale) for the El Paso, Texas wage area (AC-023).

7. Wage Schedule (Wage Change) for the Onslow, North Carolina wage area (AC-097).

8. Wage Schedule (Wage Change) for the Shelby, Tennessee wage area (AC-098).

9. Wage Schedule (Wage Change) for the Christian, Kentucky/Montgomery, Tennessee wage area (AC-099).

10. Wage Schedule (Wage Change) for the Charleston, South Carolina wage area (AC-120).

11. Wage Schedule (Wage Change) for the San Juan-Guaynabo, Puerto Rico wage area (AC-155).

Reviewing survey results and/or survey specifications for the following Appropriated Fund areas:

12. Wage Schedule (Full Scale) for the Denver, Colorado wage area (AC-022).

13. Wage Schedule (Full Scale) for the Jacksonville, Florida wage area (AC-030).

14. Wage Schedule (Full Scale) for the Miami, Florida wage area (AC-031).

15. Wage Schedule (Full Scale) for the Detroit, Michigan wage area (AC-070).

16. Wage Schedule (Full Scale) for the Southeastern North Carolina wage area (AC-101).

17. Wage Schedule (Full Scale) for the Cincinnati, Ohio wage area (AC-104).

18. Wage Schedule (Full Scale) for the Columbus, OH wage area (AC-106).

19. Wage Schedule (Full Scale) for the Narragansett Bay, Rhode Island wage area (AC-118).

20. Wage Schedule (Wage Change) for the Birmingham, Alabama wage area (AC-002).

21. Wage Schedule (Wage Change) for the Southern Colorado wage area (AC-023).

22. Wage Schedule (Wage Change) for the Hagerstown-Martinsburg-Chambersburg, MD wage area (AC-067).

23. Wage Schedule (Wage Change) for the New York, New York wage area (AC-094).

24. Wage Schedule (Wage Change) for the Dayton, Ohio wage area (AC-107).

25. Wage Schedule (Wage Change) for the Harrisburg, Pennsylvania wage area (AC-114).

26. Wage Schedule (Wage Change) for the Wyoming wage area (AC-150).

27. Survey Specifications for the Augusta, Georgia wage area (AC-038).

28. Survey Specifications for the Macon, Georgia wage area (AC-041).

29. Survey Specifications for the Southeastern Washington-Eastern Oregon wage area (AC-144).

30. Special Pay—Jacksonville, Florida Special Rates

31. Special Pay—Narragansett Bay, RI Special Rates

32. Any items needing further clarification from this agenda may be discussed during future scheduled meetings.

Closing Remarks by Chair, Mr. Eric Clayton.

April 1, 2025

Opening Remarks by Chair, Mr. Eric Clayton, and DFO, Mr. Karl Fendt.

Reviewing survey results and/or survey specifications for the following Nonappropriated Fund areas:

1. Any items needing further clarification or action from the previous meeting.

2. Survey Specifications for the Burlington, New Jersey wage area (AC-071).

3. Survey Specifications for the Kent, Delaware wage area (AC-076).

4. Survey Specifications for the Richmond-Chesterfield, Virginia wage area (AC-082).

5. Survey Specifications for the Morris, New Jersey wage area (AC-090).

Reviewing survey results and/or survey specifications for the following Appropriated Fund areas:

6. Survey Specifications for the Duluth, Minnesota wage area (AC-074).

7. Survey Specifications for the San Antonio, Texas wage area (AC-135).

8. Survey Specifications for the Milwaukee, Wisconsin wage area (AC-148).

9. Special Pay—Southeast Power Rate

10. Any items needing further clarification from this agenda may be discussed during future scheduled meetings.

Closing Remarks by Chair, Mr. Eric Clayton.

Meeting Accessibility: Pursuant to 5 U.S.C. 552b(c)(4), the DoD has determined that the meetings shall be closed to the public. The USD(P&R), in consultation with the DoD Office of General Counsel, has determined in writing that each of these meetings is likely to disclose trade secrets and commercial or financial information obtained from a person and privileged or confidential.

Written Statements: Pursuant to 5 U.S.C. 1009(a)(3) and 41 CFR 102-3.140, interested persons may submit written statements to the DFO for the DoDWC at any time. Written statements should be submitted to the DFO at the email or mailing address listed in FOR FURTHER INFORMATION CONTACT. If statements pertain to a specific topic being discussed at a planned meeting, then these statements must be submitted no later than five (5) business days prior to the meeting in question. Written statements received after this date may not be provided to or considered by the DoDWC until its next meeting. The DFO will review all timely submitted written statements and provide copies to all the committee members before the meetings that are the subject of this notice.

Due to circumstances beyond the control of the DoD and the DFO for the DoDWC, the DoDWC was unable to provide public notification required by 41 CFR 102-3.450 (a) concerning its January 7, 2025 and January 21, 2025 meetings. Accordingly, the Advisory Committee Management Officer for the Department of Defense, pursuant to 41 CFR 102-3.150(b), waives the 15-calendar day notification requirement.

Dated: January 2, 2025.
Aaron T. Siegel,
Alternate OSD Federal Register Liaison Officer, Department of Defense.

[FR Doc. 2025-00127 Filed 1-8-25; 8:45 am]

BILLING CODE 6001-FR-P